ENVIRONMENTAL PROTECTION AGENCY

40 CFR Part 52

[EPA-R03-OAR-2011-0617; FRL-9457-1]

Approval and Promulgation of Air Quality Implementation Plans; Pennsylvania; Adhesives and Sealants Rule

AGENCY: Environmental Protection Agency (EPA).

ACTION: Proposed rule.

SUMMARY: EPA is proposing to approve State Implementation Plan (SIP) revision submitted by the Commonwealth of Pennsylvania. The SIP revision pertains to amendments to 25 Pennsylvania Code (Pa. Code) Chapters 121, 129, and 130, relating to control of emissions of volatile organic compounds (VOC) from the manufacture, sale, use, or application of adhesives, sealants, primers, and solvents. The revision also amends related definitions. This action is being taken under the Clean Air Act (CAA).

DATES: Written comments must be received on or before September 26, 2011.

ADDRESSES: Submit your comments, identified by Docket ID Number EPA-R03-OAR-2011-0617 by one of the following methods:

A. http://www.regulations.gov. Follow the on-line instructions for submitting comments.

B. E-mail: fernandez.cristina@epa.gov.

C. Mail: EPA-R03-OAR-2011-0617, Cristina Fernandez, Associate Director, Office of Air Program Planning, Mailcode 3AP30, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID Number EPA-R03-OAR-2011-0617. EPA's policy is that all comments received will be included in the public docket without change, and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy during normal business hours at the Air Protection Division, U.S. Environmental Protection Agency, Region III, 1650 Arch Street, Philadelphia, Pennsylvania 19103. Copies of the State submittal are available at the Pennsylvania Department of Environmental Protection, Bureau of Air Quality Control, P.O. Box 8468, 400 Market Street, Harrisburg, Pennsylvania 17105.

FOR FURTHER INFORMATION CONTACT: Gregory Becoat, (215) 814-2036, or by e-mail at becoat.gregory@epa.gov.

SUPPLEMENTARY INFORMATION: On January 12, 2011, the Pennsylvania Department of Environmental Protection (PADEP) submitted a revision to the Pennsylvania SIP. The SIP revision consists of Pennsylvania's amendments to 25 Pa. Code Chapters 121, 129, and 130 relating to general provisions, standards for sources, and standards for products. The amendments are part of Pennsylvania's strategy to achieve and maintain the 8-hour ozone national ambient air quality standard (NAAQS) throughout the Commonwealth.

The SIP revision consists of the following amendments:

A. Amendments to 25 Pa. Code Chapter 121—General Provisions

The amendments to section 121.1—Definitions, add definitions for 53 new terms, including those that relate to the adhesive, sealant, primer, and solvent product categories regulated under section 129.77 and Chapter 130, Subchapter D and amends definitions for 9 existing terms for clarity, style, and format or to explain new product categories.

B. Amendments to 25 Pa. Code Chapter 129—Standards for Sources of VOCs

The revision amends section 129.51(a)—Equivalency, in order to include adhesives, sealants, primers, and solvents covered by section 129.77, entitled “Control of emissions from the use or application of adhesives, sealants, primers and solvents.” Section 129.51(a) provides an alternative method for owners and operators of facilities to achieve compliance with air emission limits.

The Ozone Transport Commission (OTC) states developed a model rule “OTC Model Rule For Adhesives and Sealants” dated 2006 which was based on the 1998 California Air Resources Board (CARB) reasonably available control technology (RACT) determination. This RACT determination applied to both the manufacture and use of adhesives, sealants, adhesive primers, or sealant primers, in both industrial and manufacturing facilities and in the field. California Air Districts used this determination to develop regulations for this category. EPA addressed this source category with a Control Techniques Guideline (CTG) document for Miscellaneous Industrial Adhesives dated September 2008. This CTG was developed in response to section 183(e) of the CAA requirement for EPA to study and regulate consumer and commercial products, which is included in EPA's Report to Congress, “Study of Volatile Organic Compound Emissions from Consumer and Commercial Products—Comprehensive Emissions Inventory.”

The miscellaneous industrial adhesives category was limited to adhesives and adhesive primers used in industrial and manufacturing operations and did not include products applied in the field. Therefore, the OTC model rule and state efforts in developing individual regulations preceded EPA's CTG for this source category and were broader in applicability.

The new section 129.77 adds regulations that: (a) Set standards for the application of adhesives, sealants, adhesive primers, and sealant primers by providing options for appliers either to use a product with a VOC content equal to or less than a specified limit or to use add-on controls; (b) establish that owners or operators may not use or apply at the facility an adhesive, sealant, adhesive primer, sealant primer, surface preparation, or cleanup solvent that exceeds the VOC content limits; (c) specify requirements for owners or operators of a facility that uses or applies a surface preparation solvent or cleanup solvent or removes an adhesive, sealant, adhesive primer, and sealant primer from the parts of spray application equipment; (d) provide for an alternative add-on control system requirement of at least 85 percent overall control efficiency (capture and destruction), by weight; (e) specify requirements for proper storage and disposal, work practices, surface preparation, and cleanup solvent composition; and (f) specify exemptions, as well as registration and product labeling requirements, recordkeeping requirements, and test methods and compliance procedures.

C. Amendments to 25 Pa. Code Chapter 130 Subchapter D—Adhesives, Sealants, Primers, and Solvents General Provisions

The new 25 Pa. Code Chapter 130 Subchapter D adds regulations that: (a) Set emission standards and VOC content limits for the sale, supply, offer for sale, manufacture, use, or application of adhesive, sealant, adhesive primer, and sealant primer products; (b) set emission standards and VOC content limits for the sale, supply, offer for sale, manufacture, use, or application sealant products applied to certain substrates, surface preparation solvents, and cleanup solvents; (c) establish requirements for surface preparation solvent or cleanup solvent, removal methods, and proper storage and disposal; (d) establish that a person may not solicit the use of a product if application would result in a violation of the applicable VOC content limit; (e) specify exemptions for an adhesive, sealant, adhesive primer, or sealant primer product; and (f) specify recordkeeping requirements, test methods, registration, and product labeling requirements and compliance procedures.

A detailed summary of EPA's review of and rationale for proposing to approve this SIP revision may be found in the Technical Support Document (TSD) for this action which is available on-line at http://www.regulations.gov, Docket number EPA-R03-OAR-2011-0617.

III. Proposed Action

EPA is proposing to approve the Pennsylvania SIP revision amending section 121.1 “Definitions” and section 129.51(a) “Equivalency” of 25 Pa. Code Chapter 129. EPA is also proposing to approve the Pennsylvania SIP revisions adding section 129.77 “Control of emissions from the use or application of adhesives, sealants, primers, and solvents” of 25 Pa. Code Chapter 129 and 25 Pa. Code Chapter 130 Subchapter D “Adhesives, Sealants, Primers, and Solvents General Provisions.” EPA is soliciting public comments on the issues discussed in this document. These comments will be considered before taking final action.

IV. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely proposes to approve state law as meeting Federal requirements and does not impose additional requirements beyond those imposed by state law. For that reason, this proposed action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this proposed rule, pertaining to Pennsylvania's control of VOCs from adhesives and sealants, does not have Tribal implications as specified by Executive Order 13175 (65 FR 67249, November 9, 2000), because the SIP is not approved to apply in Indian country located in the state, and EPA notes that it will not impose substantial direct costs on Tribal governments or preempt Tribal law.

List of Subjects in 40 CFR Part 52

Environmental protection, Air pollution control, Ozone, Reporting and recordkeeping requirements, Volatile organic compounds.

Authority: 42 U.S.C. 7401 et seq.

Dated: August 11, 2011.
W.C. Early,
Acting Regional Administrator, Region III.

[FR Doc. 2011-21936 Filed 8-25-11; 8:45 am]

BILLING CODE 6560-50-P